DEPARTMENT OF COMMERCE

National Oceanic and Atmospheric Administration

50 CFR Part 660

[Docket No. 250512-0084l; RTID 0648-XE941]

Fisheries Off West Coast States; Modification of the West Coast Salmon Fisheries; Inseason Actions #1-#5

AGENCY: National Marine Fisheries Service (NMFS), National Oceanic and Atmospheric Administration (NOAA), Commerce.

ACTION: Inseason modification of 2025-2026 management measures.

SUMMARY: NMFS announces five inseason actions for the 2025 portion of the 2025-2026 ocean salmon fisheries. These inseason actions modify the commercial salmon fisheries in the area from the United States/Canada border to Cape Falcon, Oregon.

DATES: The effective dates for these inseason actions are set out in this document under the heading “Inseason Actions” and the actions remain in effect until superseded or modified.

FOR FURTHER INFORMATION CONTACT: Shannon Penna, (562) 980-4239, Shannon.Penna@noaa.gov.

SUPPLEMENTARY INFORMATION:

Background

The annual management measures for the 2025-2026 ocean salmon fisheries (90 FR 20810, May 16, 2025; 90 FR 26943, June 25, 2025) govern the commercial and recreational fisheries in the area from the United States/Canada border to the United States/Mexico border, effective from 0001 hours Pacific Daylight Time (PDT), May 16, 2025, until the effective date of the 2026-2027 management measures, as published in the Federal Register. NMFS is authorized to implement inseason management actions to modify fishing seasons, catch limits, and quotas as necessary to provide fishing opportunities while meeting management objectives for the affected species (50 CFR 660.409). Inseason actions in the salmon fishery may be taken directly by NMFS (50 CFR 660.409(a)—Fixed inseason management provisions) or upon consultation with the Chairman of the Pacific Fishery Management Council (Council), and the appropriate State Directors (50 CFR 660.409(b)—Flexible inseason management provisions).

Management of the salmon fisheries is divided into two geographic areas: north of Cape Falcon (NOF) (United States/Canada border to Cape Falcon, OR) and south of Cape Falcon (Cape Falcon, OR, to the United States/Mexico border). These actions affected the NOF commercial salmon fishery, as set out under the heading Inseason Actions below.

Consultation with the Council Chairman and representatives for the appropriate State Directors on these inseason actions occurred on May 16, 2025, May 22, 2025, June 5, 2025, June 11, 2025, and June 18, 2025. These consultations included representatives from NMFS, Oregon Department of Fish and Wildlife, and Washington Department of Fish and Wildlife. Council staff and representatives from the Salmon Advisory Subpanel and the Salmon Technical Team (STT) were also present.

These inseason actions were announced on NMFS' telephone hotline and U.S. Coast Guard radio broadcast when the actions became effective. (50 CFR 660.411(a)(2)).

Inseason Actions

Inseason Action #1

Description of the action: Inseason action #1 modified the ocean salmon troll commercial fishery from the United States/Canada border to Cape Falcon, OR.

Effective dates: Inseason action #1 took effect for the following areas and dates, and remained in effect until superseded on May 22, 2025.

• Effective at 2 p.m. on Friday, May 16, 2025, through 11:59 p.m. May 22, 2025, for the ocean salmon troll commercial fishery, the landing and possession limit for the entire area between Cape Falcon and the United States/Canada border is 60 Chinook salmon per vessel per landing week (Thursday through Wednesday).

• Effective at 2 p.m. on Friday, May 16, 2025, through 11:59 p.m. June 29, 2025, for the ocean salmon troll commercial fishery, the landing and possession limit in the subarea United States/Canada border to the Queets River was modified from 100 Chinook salmon per vessel per landing week to 50 Chinook salmon per vessel per landing week (Thursday through Wednesday).

• Effective at 2 p.m. on Friday, May 16, 2025, through 11:59 p.m. June 29, 2025, for the ocean salmon troll commercial fishery, the landing and possession limit in the subarea Queets River to Leadbetter Point is 50 Chinook salmon per vessel per landing week (Thursday through Wednesday).

• Effective at 2 p.m. on Friday, May 16, 2025, through 11:59 p.m. June 29, 2025, for the ocean salmon troll commercial fishery, the landing and possession limit in the subarea between Leadbetter Point and Cape Falcon was modified from 80 Chinook salmon per vessel per landing week to 60 Chinook salmon per vessel per landing week (Thursday through Wednesday).

Reason and authorization for the action: Due to higher than anticipated catch rates and effort in the early season period between May 8, 2025, through May 15, 2025, the landing and possession limits were decreased to preserve the quota for the length of the season, and to manage the quota based on the specifics of each subarea consistent with the Fishery Management Plan (FMP). To accompany this, a landing and possession limit was set for the entire area NOF as well as limits for particular subareas. Fishers were allowed to catch in multiple subareas, but not exceed the NOF landing and possession limit when combined. This overall landing and possession limit was intended to further slow the fishery as it would avoid fishers catching the full subarea limit in multiple subareas, and thus contribute further to preserving the quota for the length of the season. Additionally, having a limit for the entire NOF area and lower limits in certain subareas ensures fair fishing opportunity throughout the fishery. One limit for the entire NOF area allows for enhanced ability to manage the quota effectively and prevent combined subarea catch from exceeding the quota. The varying limits throughout the smaller subareas allow for greater access to the quota based on the availability of fish in each subarea, which allows for more equitable fishing opportunity.

The Regional Administrator (RA) considered the abundance forecasts for Chinook salmon stocks, the timing of the action relative to the length of the season, catch and effort to date, projected catch and effort under the proposed action, and other relevant factors and determined that the inseason action described above is necessary to meet management and conservation goals set preseason. This inseason action modifies species caught and landed during specific seasons and the establishment or modification of limited retention regulations under 50 CFR 660.409(b)(1)(ii).

Inseason Actions #2-#3

Description of action #2: Inseason action #2 modified the ocean salmon troll commercial fishery from the United States/Canada border to Cape Falcon, OR. The Chinook salmon landing and possession limit for the commercial salmon troll fishery across the entire north of Cape Falcon area, regardless of subarea, was modified from 60 Chinook salmon per vessel per landing week to 70 Chinook per vessel per week (Thursday-Wednesday).

Effective dates of inseason action #2: Inseason action #2 took effect on May 22, 2025, at 5 p.m. and remained in effect until superseded on June 5, 2025.

Description of inseason action #3: Inseason action #3 modified the ocean salmon troll commercial fishery from the United States/Canada border to Cape Falcon, OR.

Effective dates of inseason action #3: Inseason action #3 took effect for the following areas and dates, and remained in effect until superseded on June 12, 2025.

• Effective at 3 p.m. on June 5, 2025, through 11:59 p.m. on June 29, 2025, the Chinook salmon landing and possession limit for the entire north of Cape Falcon area, was modified from 70 Chinook salmon per vessel per landing week to 125 Chinook salmon per vessel per landing week (Thursday through Wednesday).

• Effective at 3 p.m. on June 5, 2025, through 11:59 p.m. on June 29, 2025, for the ocean salmon troll fishery, the landing and possession limit for the subarea between the United States/Canada border and the Queets River is modified from 70 Chinook salmon per vessel per landing week to 100 Chinook salmon per vessel per landing week (Thursday through Wednesday).

• Effective at 3 p.m. on June 5, 2025, through 11:59 p.m. on June 29, 2025, for the ocean salmon troll fishery, the landing and possession limit for the subarea between the Queets River and Leadbetter Point is modified from 70 Chinook salmon per vessel per landing week to 125 Chinook salmon per vessel per landing week (Thursday through Wednesday).

• Effective at 3 p.m. on June 5, 2025, through 11:59 p.m. on June 29, 2025, for the ocean salmon troll fishery, the landing and possession limit for the subarea between Leadbetter Point and Cape Falcon is modified from 70 Chinook salmon per vessel per landing week to 100 Chinook salmon per vessel per landing week (Thursday through Wednesday).

Reason and authorization for Inseason Actions #2-#3: Inseason actions #2-#3 were necessary to raise landing and possession limits after lower than anticipated catch rates and effort were recorded for the landing week of May 15, 2025, to May 21, 2025, and the two landing weeks of May 22, 2025, to June 4, 2025. Overall effort and catch rates decreased due to poor weather conditions over the course of the time period. With the greater amount of quota remaining there was opportunity to increase landing and possession limits and provide greater access to the remaining May-June quota. In addition, a landing and possession limit was set for the entire NOF as well as limits for particular subareas. Fishers were allowed to catch in multiple subareas, but not exceed the NOF landing and possession limit when combined. This overall landing and possession limit was intended to further slow the fishery as it would avoid fisheries catching the full subarea limit in multiple subareas, and thus contribute further to preserving the quota for the length of the season. This allowed for an increase in fishing opportunities without exceeding subarea landing and possession limits consistent with conservation goals and prevented overfishing in some subareas. Additionally, having a limit for the entire NOF area and lower limits in certain subareas ensures fair fishing opportunity throughout the fishery. One limit for the entire NOF area allows for enhanced ability to manage the quota effectively and prevent combined subarea catch from exceeding the quota. The varying limits throughout the smaller subareas allow for greater access to the quota based on the availability of fish in each subarea, which allows for more equitable fishing opportunity.

The RA considered the abundance forecasts for Chinook salmon stocks, the timing of the action relative to the length of the season, the catch and effort to date relative to the remaining quota, projected catch and effort, and other relevant factors like weather, and determined that these inseason actions described above are necessary to meet management and conservation goals set preseason. These inseason actions modify species caught and landed during specific seasons and the establishment or modification of limited retention regulations under 50 CFR 660.409(b)(1)(ii).

Inseason Action #4

Description of the action: Inseason action #4 modified the Chinook salmon landing and possession limit for the commercial salmon troll fishery across the entire north of Cape Falcon area, was modified from 125 Chinook salmon per landing week to 70 Chinook salmon per vessel per landing week (Thursday-Wednesday).

Effective dates: Inseason action #4 took effect at 12:01 a.m. on June 12, 2025, and remained in effect until superseded on June 18, 2025.

Reason and authorization for the action: Due to an increase in effort and catch rates for the fishing week of June 5, 2025, through June 11, 2025, the landing and possession limit was decreased across all subareas to preserve the quota for the length of the season.

The RA considered the abundance forecasts for Chinook salmon stocks, the timing of the action relative to the length of the season, catch and effort to date, projected catch and effort under the proposed action, and other relevant factors and determined that the inseason action described above is necessary to meet management and conservation goals set preseason. This inseason action modifies species caught and landed during specific seasons and the establishment or modification of limited retention regulations under 50 CFR 660.409(b)(1)(ii).

Inseason Action #5

Description of the action: Inseason action #5 modified the NOF commercial salmon troll fishery. The spring season for the commercial salmon troll fishery in the area north of Cape Falcon is closed.

Effective dates: Inseason action #5 took effect at 11:59 p.m. on June 18, 2025, and remained in effect until the start of the summer season, unless otherwise superseded.

Reason and authorization for the action: Due to high catch rates during the landing week of June 12, 2025, through June 18, 2025, it was necessary to close the fishery in order to avoid exceeding the quota.

The RA considered the abundance forecasts for Chinook salmon stocks, the timing of the action relative to the length of the season, catch and effort to date, projected catch and effort under the proposed action, and other relevant factors and determined that the inseason action described above is necessary to meet management and conservation goals set preseason. This inseason action modifies quotas and/or fishing seasons as authorized under 50 CFR 660.409(b)(1)(i).

All other restrictions and regulations remain in effect as announced for the 2025-2026 ocean salmon fisheries (90 FR 20810, May 16, 2025; 90 FR 26943, June 25, 2025) except as previously modified by inseason actions.

As provided by the inseason notice procedures at 50 CFR 660.411, actual notice of the described regulatory actions was given, prior to the time the actions became effective, by telephone hotline numbers 206-526-6667 and 800-662-9825, and by U.S. Coast Guard Notice to Mariners broadcasts on Channel 16 VHF-FM and 2182 kHz.

Classification

NMFS issues these actions pursuant to section 305(d) of the MSA. These actions are authorized by 50 CFR 660.409, which was issued pursuant to section 304(b) of the MSA, and are exempt from review under Executive Order 12866.

Pursuant to 5 U.S.C. 553(b)(B), there is good cause to waive prior notice and an opportunity for public comment on this action, as notice and comment would be impracticable and contrary to the public interest. Prior notice and opportunity for public comment on this action was impracticable because NMFS had insufficient time to provide for prior notice and the opportunity for public comment between the time Chinook and coho salmon abundance, catch, and effort information were developed and fisheries impacts were calculated, and the time the fishery modifications had to be implemented in order to ensure fishing opportunity consistent with conservation needs and management objectives is made available, and/or fisheries are managed consistent with quotas and conservation objectives. There is a heightened need to respond quickly to inseason information about the salmon fishery because fish migrate quickly through the Exclusive Economic Zone (EEZ) and the mix of stocks in the EEZ shifts throughout the season, thus the time available between the time new information about the fishery becomes available and the opportunity to act effectively on that information is short. By the time public notice and comment would be completed, the mix of stocks in the fishery would have changed such that inseason action would be ineffective and potentially harmful. Therefore, NMFS determined that waiving notice and comment in order to respond to updated information indicating the need for immediate action to provide fishing opportunity consistent with quotas and conservation objectives, or to avoid exceeding quotas, served the public interest. As previously noted, actual notice of the regulatory action was provided to fishers through telephone hotlines and radio notifications. These actions comply with the requirements of the annual management measures for ocean salmon fisheries (90 FR 20810, May 16, 2025), the Pacific Salmon Fishery Management Plan (FMP), and regulations implementing the FMP under 50 CFR 660.409 and 660.411.

There is good cause under 5 U.S.C. 553(d)(3) to waive the 30-day delay in effective date, as a delay in effectiveness of this action would allow fishing at levels inconsistent with the goals of the FMP and the current management measures.

Authority: 16 U.S.C. 1801 et seq.

Dated: December 18, 2025.
Kelly Denit,
Director, Office of Sustainable Fisheries, National Marine Fisheries Service.

[FR Doc. 2025-23634 Filed 12-19-25; 8:45 am]

BILLING CODE 3510-22-P